DEPARTMENT OF LABOR

Employment and Training Administration

Announcement Regarding States Triggering “Off” of Tiers Three and Four of Emergency Unemployment Compensation 2008 (EUC08)

AGENCY: Employment and Training Administration, Labor.

ACTION: Notice.

SUMMARY: Announcement regarding states triggering “off” of Tiers Three and Four of the Emergency Unemployment Compensation (EUC08) program.

Public law 111-312 extended provisions in public law 111-92 which amended prior laws to create a Third and Fourth Tier of benefits within the EUC08 program for qualified unemployed workers claiming benefits in high unemployment states. The Department of Labor produces a trigger notice indicating which states qualify for EUC08 benefits within Tiers Three and Four and provides the beginning and ending dates of payable periods for each qualifying state. The trigger notice covering state eligibility for the EUC08 program can be found at: http://ows.doleta.gov/unemploy/claims_arch.asp.

Based on data published June 17 by the Bureau of Labor Statistics, the following trigger changes have occurred for states in the EUC08 program:

• Indiana's three month average, seasonally adjusted total unemployment rate fell below the 8.5% threshold to remain “on” in Tier Four of the EUC08 program. The week ending July 9, 2011 was the last week in which EUC claimants in Indiana could exhaust Tier Three, and establish Tier Four eligibility. Under the phase-out provisions, claimants may receive any remaining entitlement they have in Tier Four after July 9, 2011. Eligibility for claimants has been reduced from a maximum potential entitlement of 53 weeks to a maximum potential entitlement of 47 weeks in the EUC08 program.

• Oklahoma's three month average, seasonally adjusted total unemployment rate fell below the 6% threshold to remain “on” in Tier Three of the EUC08 program. The week ending July 9, 2011 was the last week in which EUC claimants in Oklahoma could exhaust Tier Two, and establish Tier Three eligibility. Under the phase-out provisions, claimants may receive any remaining entitlement they have in Tier Three after July 9, 2011. Eligibility for claimants has been reduced from a maximum potential entitlement of 47 weeks to a maximum potential entitlement of 34 weeks in the EUC08 program.

Information for Claimants

The duration of benefits payable in the EUC program, and the terms and conditions under which they are payable, are governed by public laws 110-252, 110-449, 111-5, 111-92, 111-118, 111-144, 111-157, and 111-205, and the operating instructions issued to the states by the U.S. Department of Labor. Persons who believe they may be entitled to additional benefits under the EUC08 program, or who wish to inquire about their rights under the program, should contact their State Workforce Agency.

FOR FURTHER INFORMATION CONTACT: Scott Gibbons, U.S. Department of Labor, Employment and Training Administration, Office of Workforce Security, 200 Constitution Avenue, NW., Frances Perkins Bldg., Room S-4231, Washington, DC 20210, telephone number (202) 693-3008 (this is not a toll-free number) or by e-mail: gibbons.scott@dol.gov.

Signed in Washington, DC, this 19th day of July, 2011.
Jane Oates,
Assistant Secretary, Employment and Training Administration.

[FR Doc. 2011-18738 Filed 7-25-11; 8:45 am]

BILLING CODE 4510-FW-P